NATIONAL AERONAUTICS AND SPACE ADMINISTRATION

[Notice (16-010)]

NASA Advisory Council; Human Exploration and Operations Committee; Meeting

AGENCY: National Aeronautics and Space Administration.

ACTION: Notice of Meeting.

SUMMARY: In accordance with the Federal Advisory Committee Act, Public Law 92-463, as amended, the National Aeronautics and Space Administration (NASA) announces a meeting of the Human Exploration and Operations Committee of the NASA Advisory Council (NAC). This Committee reports to the NAC.

DATES: Wednesday, March 2, 2016, 9:30 a.m.-6:00 p.m.; and Thursday, March 3, 2016, 8:30 a.m.-12:30 p.m., Local Time.

ADDRESSES: NASA Headquarters, Glennan Conference Room, 1Q39, 300 E Street SW., Washington, DC 20546

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may dial the toll free access number 1-888-455-6733 or toll access number 1-210-839-8935, and then the participant passcode: NAC HEOC, to participate in this meeting by telephone. The WebEx link is https://nasa.webex.com/, the meeting number is 994 395 902, and the password is Exploration@2016 (case sensitive).

The agenda for the meeting includes the following topics:

• Human Exploration Progress and Plans

• Budget Status

• NASA Program Management Process Update

Attendees will be required to sign a register and comply with NASA security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Illinois, Minnesota, Missouri, New Mexico and Washington. Foreign nationals attending this meeting will be required to provide a copy of their passport and visa in addition to providing the following information no less than 10 days prior to the meeting: full name; gender; date/place of birth; citizenship; visa information (number, type, expiration date); passport information (number, country, expiration date); employer/affiliation information (name of institution, address, country, telephone); title/position; and home address to Dr. Bette Siegel via email at bette.siegel@nasa.gov. U.S. citizens and Permanent Residents (green card holders) are requested to submit their name and affiliation 3 working days prior to the meeting to Dr. Bette Siegel via email at bette.siegel@nasa.gov. It is imperative that the meeting be held on this date to accommodate the scheduling priorities of the key participants.

Patricia D. Rausch,
Advisory Committee Management Officer, National Aeronautics and Space Administration.

[FR Doc. 2016-02556 Filed 2-8-16; 8:45 am]

BILLING CODE 7510-13-P